PEACE CORPS

22 CFR Part 304

RIN 0420-AA23

Claims Against the Government Under the Federal Tort Claims Act

AGENCY: Peace Corps.

ACTION: Final rule.

SUMMARY: The Peace Corps is revising its regulation concerning claims filed under the Federal Tort Claims Act, to make the regulation internally consistent with another provision stating that the Chief Financial Officer has authority to approve claims for amounts under $5000.

DATES: The final rule is effective September 24, 2008.

FOR FURTHER INFORMATION CONTACT: Nancy G. Miller, Associate General Counsel, Office of the General Counsel, 202-692-2150.

SUPPLEMENTARY INFORMATION: The Peace Corps published a proposed rule on July 9, 2008, for public review and comment. See 73 FR 39270, (July 9, 2008). The Peace Corps received no public comments and the Agency has made no further revisions. Therefore, this rule is final and will be effective on the date stated above.

On March 16, 2007, Peace Corps revised 22 CFR 304.7 to provide that the Chief Financial Officer “has the authority to adjust, determine, compromise, and settle claims for less than $5,000.” This final rule will rectify an omission in sec. 304.10 which did not refer to the Chief Financial Officer's authority for deciding claims worth less than $5,000.

This rule amends section 304.10(b) to provide that the Chief Financial Officer will make final determinations for claims worth less than $5,000.

Executive Order 12866

This regulation has been determined to be non-significant within the meaning of Executive Order 12866.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by state, local, and tribal governments, in aggregate, or by the private sector of $100 million or more in any one year.

Paperwork Reduction Act of 1995 (44 U.S.C., Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects in 22 CFR Part 304

Claims.

Accordingly, Peace Corps amends 22 CFR part 304 as follows:

PART 304—CLAIMS AGAINST THE GOVERNMENT UNDER THE FEDERAL TORT CLAIMS ACT

1. The authority citation for part 304 continues to read as follows:

Authority: 28 U.S.C. 2672; 22 U.S.C. 2503(b); E.O. 12137, as amended.

2. Amend § 304.10 by revising paragraph (b) to read as follows:

§ 304.10 Review of claim.

* * * * *

(b) After legal review and recommendation by the General Counsel, the Director of the Peace Corps will make a written determination on the claim, unless the claim is worth less than $5,000, in which case the Chief Financial Officer will make the written determination.

Dated: August 18, 2008.
Tyler Posey,
General Counsel.

[FR Doc. E8-19642 Filed 8-22-08; 8:45 am]

BILLING CODE 6015-01-P